DEPARTMENT OF DEFENSE

Defense Acquisition Regulations System

48 CFR Parts 225 and 252

RIN 0750-AF91

Defense Federal Acquisition Regulation Supplement; Deletion of Obsolete Restriction on Acquisition of Vessel Propellers (DFARS Case 2007-D027)

AGENCY: Defense Acquisition Regulations System, Department of Defense (DoD).

ACTION: Final rule.

SUMMARY: DoD has issued a final rule amending the Defense Federal Acquisition Regulation Supplement (DFARS) to remove text addressing an obsolete restriction on the acquisition of vessel propellers from foreign sources. The statute upon which the restriction was based applied only to acquisitions using fiscal year 2000 or 2001 funds.

EFFECTIVE DATE: April 23, 2008.

FOR FURTHER INFORMATION CONTACT: Ms. Amy Williams, Defense Acquisition Regulations System, OUSD(AT&L)DPAP(DARS), IMD 3D139, 3062 Defense Pentagon, Washington, DC 20301-3062. Telephone 703-602-0328; facsimile 703-602-7887. Please cite DFARS Case 2007-D027.

SUPPLEMENTARY INFORMATION:

A. Background

The text at DFARS 225.7010 through 225.7010-4, and the corresponding contract clause at DFARS 252.225-7023, were added on December 13, 2000 (65 FR 77827), to implement provisions of Section 8064 of the Fiscal Year 2001 DoD Appropriations Act (Pub. L. 106-259) relating to vessel propellers. Section 8064 prohibited the use of fiscal year 2000 or 2001 DoD appropriated funds for the procurement of vessel propellers, other than those produced by a domestic source and of domestic origin, unless an exception applied or a waiver was granted. This prohibition was not repeated in subsequent appropriations acts and, therefore, is removed from the DFARS.

This rule was not subject to Office of Management and Budget review under Executive Order 12866, dated September 30, 1993.

B. Regulatory Flexibility Act

This rule will not have a significant cost or administrative impact on contractors or offerors, or a significant effect beyond the internal operating procedures of DoD. Therefore, publication for public comment under 41 U.S.C. 418b is not required. However, DoD will consider comments from small entities concerning the affected DFARS subparts in accordance with 5 U.S.C. 610. Such comments should cite DFARS Case 2007-D027.

C. Paperwork Reduction Act

The Paperwork Reduction Act does not apply, because the rule does not impose any information collection requirements that require the approval of the Office of Management and Budget under 44 U.S.C. 3501, et seq.

List of Subjects in 48 CFR Parts 225 and 252

Government procurement.

Michele P. Peterson,
Editor, Defense Acquisition Regulations System.

Therefore, 48 CFR parts 225 and 252 are amended as follows:

1. The authority citation for 48 CFR parts 225 and 252 continues to read as follows:

Authority: 41 U.S.C. 421 and 48 CFR Chapter 1.

PART 225—FOREIGN ACQUISITION

225.7010 [Removed and Reserved]

2. Section 225.7010 is removed and reserved.

225.7010-1 through 225.7010-4 [Removed]

3. Sections 225.7010-1 through 225.7010-4 are removed.

PART 252—SOLICITATION PROVISIONS AND CONTRACT CLAUSES

252.225-7023 [Removed and Reserved]

4. Section 252.225-7023 is removed and reserved.

[FR Doc. E8-8694 Filed 4-22-08; 8:45 am]

BILLING CODE 5001-08-P